DEPARTMENT OF LABOR

Occupational Safety and Health Administration

29 CFR Part 1910

Occupational Safety and Health Standards

CFR Correction

This rule is being published by the Office of the Federal Register to correct an editorial or technical error that appeared in the most recent annual revision of the Code of Federal Regulations.

In Title 29 of the Code of Federal Regulations, Parts 1900 to 1910.999, revised as of July 1, 2021, in § 1910.95, in section II of appendix A, remove the term “TWA 6.61” in the formula and add the term “TWA=16.61” in its place.

[FR Doc. 2022-11613 Filed 5-31-22; 8:45 am]

BILLING CODE 0099-10-P